DEPARTMENT OF TRANSPORTATION

Federal Railroad Administration

[Docket No. FRA-2024-0012]

Proposed Agency Information Collection Activities; Comment Request

AGENCY: Federal Railroad Administration (FRA), Department of Transportation (DOT).

ACTION: Notice of information collection; request for comment.

SUMMARY: Under the Paperwork Reduction Act of 1995 (PRA) and its implementing regulations, FRA seeks approval of the Information Collection Request (ICR) summarized below. Before submitting this ICR to the Office of Management and Budget (OMB) for approval, FRA is soliciting public comment on specific aspects of the activities identified in the ICR.

DATES: Interested persons are invited to submit comments on or before September 9, 2024.

ADDRESSES: Written comments and recommendations for the proposed ICR should be submitted at www.regulations.gov to the docket, Docket No. FRA-2024-0012. All comments received will be posted without change to the docket, including any personal information provided. Please refer to the assigned OMB control number (2130-0008) in any correspondence submitted. FRA will summarize comments received in a subsequent 30-day notice.

FOR FURTHER INFORMATION CONTACT: Ms. Arlette Mussington, Information Collection Clearance Officer, at email: arlette.mussington@dot.gov or telephone: (571) 609-1285 or Ms. Joanne Swafford, Information Collection Clearance Officer, at email: joanne.swafford@dot.gov or telephone: (757) 897-9908.

SUPPLEMENTARY INFORMATION: The PRA, 44 U.S.C. 3501-3520, and its implementing regulations, 5 CFR part 1320, require Federal agencies to provide 60 days' notice to the public to allow comment on information collection activities before seeking OMB approval of the activities. See 44 U.S.C. 3506, 3507; 5 CFR 1320.8 through 1320.12. Specifically, FRA invites interested parties to comment on the following ICR regarding: (1) whether the information collection activities are necessary for FRA to properly execute its functions, including whether the activities will have practical utility; (2) the accuracy of FRA's estimates of the burden of the information collection activities, including the validity of the methodology and assumptions used to determine the estimates; (3) ways for FRA to enhance the quality, utility, and clarity of the information being collected; and (4) ways for FRA to minimize the burden of information collection activities on the public, including the use of automated collection techniques or other forms of information technology. See 44 U.S.C. 3506(c)(2)(A); 5 CFR 1320.8(d)(1).

FRA believes that soliciting public comment may reduce the administrative and paperwork burdens associated with the collection of information that Federal regulations mandate. In summary, comments received will advance three objectives: (1) reduce reporting burdens; (2) organize information collection requirements in a “user-friendly” format to improve the use of such information; and (3) accurately assess the resources expended to retrieve and produce information requested. See 44 U.S.C. 3501.

The summary below describes the ICR that FRA will submit for OMB clearance as the PRA requires:

Title: Inspection Brake System Safety Standards for Freight and Other Non-Passenger Trains and Equipment (Power Brakes).

OMB Control Number: 2130-0008.

Abstract: Title 49 CFR part 232 prescribes Federal safety standards for freight and other non-passenger train brake systems and equipment. Part 232 includes recordkeeping and information reporting requirements including the following:

General (subpart A)—procedures for special approvals of alternative standards or test procedures and waivers, and procedures related to the movement of equipment with defective brakes.

General requirements (subpart B)—generally applicable system requirements for the operation of brake systems on complete trains, including braking systems, locomotive brakes, dynamic braking, train handling and securement.

Inspection and testing requirements (subpart C)—various airbrake test requirements for specific train operating scenarios, including initial terminal tests, intermediate inspections, continuity tests, and extended haul trains. This subpart also has specific rules regarding the use of yard air for conducting the above tests in lieu of locomotives and the use of independent locomotives in double-heading and helper service.

Periodic maintenance and testing requirements (subpart D)—yearly and other periodic testing of individual equipment. This subpart also specifies the equipment and procedures necessary to modify the instructions used to perform these tests.

End-of-train (EOT) devices (subpart E)—design and performance standards of both one-way and two-way EOT devices used on all trains with air brakes. This section also includes the inspection and testing requirements for EOT devices.

Introduction of new brake system technology (subpart F)—approval procedures for the introduction of new technologies not already covered by existing regulations, and requirements for the development of a pre-revenue service acceptance testing plan.

Electronically controlled pneumatic (ECP) braking systems (subpart G)—alternate standards for the operation and maintenance of ECP brake systems, particularly where the ECP system is not harmonious with previous standards. This includes interoperability, training, inspection and testing, movement of defective equipment, and periodic maintenance.

Tourist, scenic, historic, and excursion operations (T&H) braking systems (subpart H)—regulations that apply specifically to T&H railroads. Those regulations are the same as existed in 2001, as stated in current 49 CFR 232.1(c).

Overall, the information collection requirements of part 232 serve two important safety purposes. First, the regulations allow FRA to monitor compliance with braking system safety regulations. Second, FRA refers to records regularly maintained under part 232 to assess the effectiveness of the regulations and identify opportunities for improvement.

In this 60-day notice, FRA made multiple adjustments that decreased the previously approved burden hours from 528,432 to 324,638 hours. The decrease in burden is the result of the changes described in the following sections discussed below:

• Under § 232.17, Special approval procedure, FRA determined that the estimated paperwork burden to develop the alternative standard or test plan is already included under § 232.505, Pre-revenue service acceptance plan. The estimated paperwork burden under this section is reduced by 244 hours. Additionally, FRA anticipates receiving zero statements of interest and has determined that the burden previously reported for public comments is excluded from the definition of information covered by the PRA under 5 CFR 1320.3(h)(4).

• The previously reported burdens under § 232.103 related to job briefings and § 232.209 related to “roll-by” inspections are not considered information collections under the PRA because the agency is not collecting any information or requiring a third party to collect any information or keep any records. Therefore, the 328 burden hours associated with those regulatory requirements have been removed.

• Under §§ 232.107, Air source requirements and cold weather operations; 232.109, Dynamic brake requirements; 232.203, Training requirements; 232.207, Class IA brake tests—1,000-mile inspection; 232.213, Extended haul trains; and 232.303, General requirements, FRA made burden estimate adjustments that more accurately reflect the number of responses and estimated average time required by each section, reducing the burden by 6,523 hours.

• Under § 232.505, Pre-revenue service acceptance testing plans, FRA concluded that the previously reported burden hours for the design plan are already included in the 160 hours reported for each test plan. Accordingly, burden hours have been reduced by 137.29 hours.

Additionally, FRA made rounding adjustments that reduced the burden hours by 1,658.76 hours. Overall, total adjustments reduced the total burden by 203,794 hours.

Type of Request: Extension without change (with changes in estimates) of a currently approved information collection.

Affected Public: Railroads, Association of American Railroads (AAR), and manufacturers.

Form(s): N/A.

Respondent Universe: 784 Railroads.

Frequency of Submission: On occasion.

Reported Burden:

CFR part 232 section | Respondent universe | Annual responses | Avg. time per response (hours) | Total annual burden hours (C) | Total cost equivalent U.S.D
|  | (A) | (B) | (A * B = C) | (C * wage rate ¹)
232.3—Applicability | 784 railroads | 8 |  | 1.36 | $116.86
(d)(3)—Identification of cars not owned by RR |  | 8 | 0.17 | 1.36 | 116.86
232.7—Waivers | 784 railroads | 2 |  | 320.00 | 27,497.60
(a)—Waivers |  | 2 | 160 | 320.00 | 27,497.60
232.15—Movement of defective equipment | 784 railroads | 153,400 |  | 6,642.80 | 570,815.80
(a)(11)(ii)—Written Notification |  | 25,000 | 0.05 | 1,250.00 | 107,412.50
(b)—Tagging of defective equipment |  | 128,400 | 0.042 | 5,392.80 | 463,403.30
232.17—Special approval procedure | 784 railroads | 0.67 |  | 0.67 | 57.57
(b) through (d)—Submission of petition for special approval of alternative standard or test procedure and pre-revenue service acceptance plan |  | 0.67 | 1 | 0.67 | 57.57
232.103—General requirements for all train brake systems | 784 railroads | 70,014 |  | 11,958.50 | 1,027,593.91
—Requirement for legible decal/stencil/sticker on all cars |  | 70,000 | 0.17 | 11,900.00 | 1,022,567.00
(n)—Securement of unattended equipment—Unattended equipment plans (new plans) |  | 1 | 10 | 10.00 | 859.30
—Notification to FRA when RR develops and has plan in place or modifies existing plan |  | 1 | 0.50 | 0.50 | 42.97
—(n)(10) Records of inspection following non-railroad emergency responder on equipment |  | 12 | 4 | 48.00 | 4,124.64
232.105—General requirements for locomotives—Inspection records | The burden for this requirement is included under OMB control number 2130-0004 under 49 CFR 229.23.
232.107—Air source requirements and cold weather operations | 5 new railroads | 1,156 |  | 335.50 | 28,829.52
(a)—Monitoring plans for yard air sources (new) |  | 1 | 40 | 40.00 | 3,437.20
—Updates/revisions | 50 existing plans | 5 | 20 | 100.00 | 8,593.00
—Recordkeeping | 50 existing plans | 1,150 | 0.17 | 195.50 | 16,799.32
232.109—Dynamic brake requirements | 784 railroads | 1,668,748 |  | 116,474.22 | 10,008,630.07
(a)—Brake status records |  | 1,656,000 | 0.07 | 115,920.00 | 9,961,005.60
(c)—Inoperative dynamic brakes, tagging and records | 30,000 locomotives | 6,358 | 0.07 | 445.06 | 38,244.01
(d)—Tagging inoperative dynamic breaks | 30,000 locomotives | 6,358 | 0.008 | 50.86 | 4,370.74
(e)—Deactivated dynamic brakes markings | 1000 locomotives | 10 | 0.08 | 0.80 | 68.74
(J)—Operating rules |  | 5 | 4 | 20.00 | 1,718.60
—Amended/revised operating rules |  | 15 | 1 | 15.00 | 1,288.95
—Request to increase mph overspeed restriction |  | 1 | 20.5 | 20.50 | 1,761.57
(k)—Knowledge, skill ability training plan |  | 1 | 2 | 2.00 | 171.86
232.111—Train handling information | 784 railroads | 2,112,105 |  | 171,160 | 14,707,778.80
(a)—Written procedures for train handling |  | 5 | 40 | 200.00 | 17,186.00
—Amendments/revisions |  | 100 | 20 | 2,000.00 | 171,860.00
—Provide crew with report |  | 2,112,000 | 0.08 | 168,960.00 | 14,518,732.80
232.203—Training requirements | 784 railroads | 50,587 |  | 6,889.15 | 591,984.66
(a)—Training programs |  | 5 | 100 | 500.00 | 42,965.00
—Periodic assessment of training program |  | 784 | 1 | 784.00 | 67,369.12
—Amendments |  | 236 | 8 | 1,888.00 | 162,235.84
(e)—Training records and notifications |  | 24,781 | 0.13 | 3,221.53 | 276,826.07
—Notifications |  | 24,781 | 0.02 | 495.62 | 42,588.63
232.205—Class I brake test—initial terminal inspection | 784 railroads | 383,850 |  | 4,686.08 | 402,674.85
(c)(1)(ii)(B)—Operating rules for airflow compliance |  | 10 | 8 | 80.00 | 6,874.40
(e)—Brake test notice records |  | 383,840 | 0.012 | 4,606.08 | 395,800.45
(c) (1)(iii)—Form 49A notation/certification of last date of air flow method (AFM) indicator calibration (formally under § 229.29(b) | The estimated paperwork burden for this requirement is included under OMB Control Number 2130-0004.
232.207—Class IA brake tests—1000-mile inspection | 784 railroads | 53 |  | 9.84 | 845.55
(c)—Designated list of inspection locations |  | 1 | 1 | 1.00 | 85.93
(c)(2)—Notice of change to inspection locations. |  | 52 | 0.17 | 8.84 | 759.62
232.213—Extended haul trains | 83,000 long-haul trains | 208 |  | 43.68 | 3,753.42
(a)—Written designation in writing to FRA |  | 104 | 0.25 | 26.00 | 2,234.18
(a)(8)—Notice of change of location of brake test | 7 railroads | 104 | 0.17 | 17.68 | 1,519.24
232.219—Double-heading and helper service | 2 railroads | 100 |  | 8.00 | 687.44
(c)(4)—Records of device testing |  | 100 | 0.08 | 8.00 | 687.44
232.303—General requirements—shop or repair track | 1,633,792 freight cars | 37,600 |  | 1,408.00 | 120,989.44
(d)(1)—Tagging of moved equipment |  | 5,600 | 0.08 | 448.00 | 38,496.64
(f)—Last repair track brake test or single car air brake test marking |  | 32,000 | 0.03 | 960.00 | 82,492.80
232.307—Modification of brake test procedures | AAR/railroads | 2 |  | 20.50 | 1,761.57
(a)—Request to modify brake test procedures |  | 1 | 20 | 20.00 | 1,718.60
(a)(4)—Affirmation statement and copies served to designated representatives. |  | 1 | 0.50 | 0.50 | 42.97
232.309—Equipment and devices used to perform single car air brake tests | 640 shops | 5000 |  | 150.00 | 12,889.50
(d)—Labeling/tagging of test devices |  | 5000 | 0.03 | 150.00 | 12,889.50
232.403—Design standards for one-way end-of-train devices | 245 railroads | 12 |  | 0.96 | 82.49
(e)—Requesting unique code |  | 12 | 0.08 | 0.96 | 82.49
232.409—Inspection and testing of end-of-train-devices | 784 railroads | 464,501 |  | 4,102.00 | 352,484.86
(c)—Two-way end-of-train testing notification record |  | 447,500 | 0.008 | 3,580.00 | 307,629.40
(d) through (e)—Telemetry/air pressure equipment testing record |  | 17,000 | 0.03 | 510.00 | 43,824.30
(f)(2)—Annual reports to FRA | 1 manufacturer | 1 | 12 | 12.00 | 1,031.16
232.503—Process to introduce new brake system technology | 784 railroads | 2 |  | 4.00 | 343.72
(a)—Special approval—approval for non-standard brake technology letter for approval |  | 1 | 1 | 1.00 | 85.93
(b)—Pre-revenue service demonstration |  | 1 | 3 | 3.00 | 257.79
232.505—Pre-revenue service acceptance testing plan | 784 railroads | 3.01 |  | 182.71 | 15,700.27
(a)—Submission of testing plan |  | 0.67 | 160 | 107.20 | 9,211.70
—Revision to testing plan |  | 0.67 | 40 | 26.80 | 2,302.92
—Report to FRA |  | 0.67 | 13 | 8.71 | 748.45
—(f) Testing records for brake system technology previously used in revenue service in United States |  | 1 | 40 | 40.00 | 3,437.20
232.717—Freight and passenger train car brakes | 40 railroads | 40 |  | 240.00 | 20,623.20
(c)—Written maintenance plan |  | 40 | 6 | 240.00 | 20,623.20
Total ² | 784 railroads; 30,000 locomotives; 1 manufacturer | 4,947,392 responses |  | 324,638 hours | $27,896,141
¹ The dollar equivalent cost throughout this table is derived from the 2022 Surface Transportation Board Full Year Wage A&B data series using employee group 200 (Professional & Administrative) hourly wage rate of $49.10. The total burden wage rate (straight time plus 75%) used in the table is $85.93 ($49.10 × 1.75 = $85.93).
² Total may not add up due to rounding.

Total Estimated Annual Responses: 4,947,392.

Total Estimated Annual Burden: 324,638 hours.

Total Estimated Annual Burden Hour Dollar Cost Equivalent: $27,896,141.

FRA informs all interested parties that it may not conduct or sponsor, and a respondent is not required to respond to, a collection of information that does not display a currently valid OMB control number.

Authority: 44 U.S.C. 3501-3520.

Christopher S. Van Nostrand,
Deputy Chief Counsel.

[FR Doc. 2024-15032 Filed 7-8-24; 8:45 am]

BILLING CODE 4910-06-P